DEPARTMENT OF HOMELAND SECURITY

Federal Emergency Management Agency

[Docket ID FEMA-2016-0002; Internal Agency Docket No. FEMA-B-1613]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 25, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1613, to Rick Sacbibit, Chief, Engineering Services Branch, Federal Insurance and Mitigation Administration, FEMA, 500 C Street SW., Washington, DC 20472, (202) 646-7659, or (email) patrick.sacbibit@fema.dhs.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: April 11, 2016.
Roy E. Wright,
Deputy Associate Administrator for Insurance and Mitigation, Department of Homeland Security, Federal Emergency Management Agency.

I. Watershed-based studies:

Community | Community map repository address
Brandywine-Christina Watershed
Maps Available for Inspection Online at: http://www.fema.gov/preliminaryfloodhazarddata
Chester County, Pennsylvania (All Jurisdictions)
Borough of Atglen | Borough Office, 120 West Main Street, Atglen, PA 19310.
Borough of Avondale | Borough Office Building, 110 Pomeroy Avenue, Avondale, PA 19311.
Borough of Downingtown | Municipal Government Center, 4-10 West Lancaster Avenue, Downingtown, PA 19335.
Borough of Kennett Square | Borough Hall, 120 Marshall Street, Kennett Square, PA 19348.
Borough of Modena | Borough Hall, Five Woodland Avenue, Modena, PA 19358.
Borough of Parkesburg | Borough Hall, Building One, 315 West First Avenue, Parkesburg, PA 19365.
Borough of South Coatesville | Borough Hall, 136 Modena Road, South Coatesville, PA 19320.
Borough of West Chester | Municipal Building, 401 East Gay Street, West Chester, PA 19380.
Borough of West Grove | Municipal Building, 117 Rose Hill Avenue, Second Floor, West Grove, PA 19390.
City of Coatesville | City Hall, One City Hall Place, Coatesville, PA 19320.
Township of Birmingham | Birmingham Township Office, 1040 West Street Road, West Chester, PA 19382.
Township of Caln | Caln Township Municipal Building, 253 Municipal Drive, Thorndale, PA 19372.
Township of East Bradford | East Bradford Township Hall, 666 Copeland School Road, West Chester, PA 19380.
Township of East Brandywine | East Brandywine Township Office, 1214 Horseshoe Pike, Downingtown, PA 19335.
Township of East Caln | East Caln Township Municipal Building, 110 Bell Tavern Road, Downingtown, PA 19335.
Township of East Fallowfield | Township Building, 2264 Strasburg Road, East Fallowfield, PA 19320.
Township of East Marlborough | East Marlborough Township Office, 721 Unionville Road, Kennett Square, PA 19348.
Township of East Whiteland | East Whiteland Township Building, 209 Conestoga Road, Frazer, PA 19355.
Township of Franklin | Franklin Township Building, 20 Municipal Lane, Landenberg, PA 19350.
Township of Highland | Highland Township Municipal Building, 100 Five Point Road, Coatesville, PA 19320.
Township of Honey Brook | Township Administration Office, 500 Suplee Road, Honey Brook, PA 19344.
Township of Kennett | Kennett Township Municipal Building, 801 Burrows Run Road, Chadds Ford, PA 19317.
Township of London Grove | London Grove Township Office, 372 Rose Hill Road, Suite 100, West Grove, PA 19390.
Township of Londonderry | Londonderry Municipal Office Building, 103 Daleville Road, Cochranville, PA 19330.
Township of Lower Oxford | Lower Oxford Township Municipal Office, 220 Township Road, Oxford, PA 19363.
Township of New Garden | New Garden Township Administrative Building, 299 Starr Road, Landenberg, PA 19350.
Township of Newlin | Newlin Township Office, Maintenance Garage, 1751 Embreeville Road, Coatesville, PA 19320.
Township of Penn | Penn Township Building, 260 Lewis Road, West Grove, PA 19390.
Township of Pennsbury | Pennsbury Township Municipal Building, 702 Baltimore Pike, Chadds Ford, PA 19317.
Township of Pocopson | Pocopson Township Administration Building, 740 Denton Hollow Road, West Chester, PA 19382.
Township of Sadsbury | Sadsbury Township Municipal Building, 2920 Lincoln Highway, Sadsburyville, PA 19369.
Township of Thornbury | Thornbury Township Municipal Building, Eight Township Drive, Cheyney, PA 19319.
Township of Upper Oxford | Upper Oxford Township Building, 1185 Limestone Road, Oxford, PA 19363.
Township of Upper Uwchlan | Upper Uwchlan Township Office, 140 Pottstown Pike, Chester Springs, PA 19425.
Township of Uwchlan | Uwchlan Township Administration Building, Zoning Department, 715 North Ship Road, Exton, PA 19341.
Township of Valley | Valley Township Municipal Building, 890 West Lincoln Highway, Coatesville, PA 19320.
Township of Wallace | Wallace Township Municipal Building, 1250 Creek Road, Glenmoore, PA 19343.
Township of West Bradford | West Bradford Township Building, 1385 Campus Drive, First Floor, Downingtown, PA 19335.
Township of West Brandywine | Township Building, 198 Lafayette Road, Upper Level, West Brandywine, PA 19320.
Township of West Caln | West Caln Township Municipal Building, 721 West Kings Highway, Wagontown, PA 19376.
Township of West Fallowfield | West Fallowfield Township Office, 3095 Limestone Road, Suite One, Cochranville, PA 19330.
Township of West Goshen | West Goshen Township Office, 1025 Paoli Pike, West Chester, PA 19380.
Township of West Marlborough | West Marlborough Township Building, 1300 Doe Run Road, Coatesville, PA 19320.
Township of West Nantmeal | West Nantmeal Township Municipal Building, 455 North Manor Road, Elverson, PA 19520.
Township of West Nottingham | West Nottingham Township Municipal Building, 100 Park Road, Nottingham, PA 19362.
Township of West Sadsbury | West Sadsbury Township Municipal Building, 6400 North Moscow Road, Parkesburg, PA 19365.
Township of West Whiteland | West Whiteland Township Building, Zoning Department, 101 Commerce Drive, Exton, PA 19341.
Delaware County, Pennsylvania (All Jurisdictions)
Township of Chadds Ford | Township Municipal Building, 10 Ring Road, Chadds Ford, PA 19317.

II. Non-watershed-based studies:

Community | Community map repository address
Carbon County, Montana, and Incorporated Areas
Maps Available for Inspection Online at: http://www.fema.gov/preliminaryfloodhazarddata
Project: 15-08-1292S Preliminary Date: December 11, 2015
Unincorporated Areas of Carbon County | County Administration Building, 17 West 11th Street, Red Lodge, MT 59068.
Lincoln County, South Dakota, and Incorporated Areas
Maps Available for Inspection Online at: http://www.fema.gov/preliminaryfloodhazarddata
Project: 14-08-1283S Preliminary Date: October 8, 2015
Unincorporated Areas of Lincoln County | Lincoln County Planning and Zoning Department, 104 North Main Street, Suite 220, Canton, SD 57013.
Minnehaha County, South Dakota, and Incorporated Areas
Maps Available for Inspection Online at: http://www.fema.gov/preliminaryfloodhazarddata
Project: 14-08-1283S Preliminary Date: October 8, 2015
City of Sioux Falls | City Hall, 224 West Ninth Street, Sioux Falls, SD 57117.
Unincorporated Areas of Minnehaha County | Minnehaha County Planning Department, 415 North Dakota Avenue, Sioux Falls, SD 57104.

[FR Doc. 2016-09469 Filed 4-22-16; 8:45 am]

BILLING CODE 9110-12-P